FEDERAL COMMUNICATIONS COMMISSION

Notice of Public Information Collection(s) Being Reviewed by the Federal Communications Commission, Comments Requested

August 30, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 6, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-XXXX.

Title: Extending Wireless Telecommunications Services to Tribal Lands.

Form No.: FCC Form 601.

Type of Review: New collection.

Respondents: State, Local or Tribal Government, business or other for-profit, and not-for-profit institutions.

Number of Respondents: 3,844.

Estimated Time Per Response: 200 hours.

Frequency of Response: On occasion.

Total Annual Burden: 768,800 hours.

Needs and Uses: Report and Order implements bidding credits for federally-recognized tribal areas that have a telephone service penetration rate below seventy percent (qualifying tribal land).

OMB Control Number: 3060-0016.

Title: Application for Authority to Construct or Make Changes in a Low Power TV, TV Translator or TV Booster Station.

Form Number: FCC 346.

Type of Review: Extension of currently approved collection.

Respondents: Businesses or other for-profit; not-for-profit institutions; state, local or tribal government.

Number of Respondents: 1,200.

Estimated time per response: 20 hours (split between contractors and respondent, depending on type of application).

Frequency of Response: Reporting, on occasion; third party disclosure.

Total annual burden: 8,400.

Total annual costs: $3,597,600.

Needs and Uses: FCC Form 346 is used by licensees/permittees/applicants when applying for authority to construct or make changes in a Low Power Television, TV Translator or TV Booster broadcast station.

Applicants are also subject to the third party disclosure requirement of Section 73.3580. This section requires local public notice in a newspaper of general circulation of the filing of all applications for new or major changes in facilities. This notice must be completed within 30 days of the tendering of the application. This notice must be published at least twice a week for two consecutive weeks in a three-week period. A copy of this notice must be locally maintained along with the application.

The data is used by FCC staff to determine if the applicant is qualified, meets basic statutory and treaty requirements and will not cause interference to other authorized broadcast services.

OMB Number: 3060-0414.

Title: Terrain Shielding Policy.

Form Number: None.

Type of Review: Extension of currently approved collection.

Respondents: Business or other for-profit, not-for-profit institutions, state, local or tribal government.

Number of Respondents: 500.

Estimated time per response: 10 hours (1 hours respondent/9 hours consulting engineer).

Frequency of response: Reporting, on occasion.

Total annual burden: 500.

Total annual costs: $675,000.

Needs and Uses: The terrain shielding policy requires respondents to submit either a detailed terrain study, or to submit letters of assent from all potentially affected parties and graphic depiction of the terrain when intervening terrain prevents a low power television applicant from interfering with other low power television or full-power television stations. The data is used by FCC staff to determine if adequate interference protection can be provided by terrain shielding and if a waiver of Sections 74.705 and 74.707 of the Rules is warranted.

OMB Number: 3060-0427.

Title: Section 73.3523 Dismissal of applications in renewal proceedings.

Form Number: None.

Type of Review: Extension of currently approved collection.

Respondents: Business or other for-profit.

Number of Respondents: 1.

Estimated time per response: 8 hours (1 hour licensee, 7 hours attorney).

Frequency of responding: Reporting, on occasion.

Total annual burden: 1 hour.

Total annual costs: $1,600.

Needs and Uses: Section 73.3523 requires an applicant for a construction permit to obtain approval from the FCC to dismiss or withdraw its application when that application is mutually exclusive with a renewal application. This request for approval must contain a copy of any written agreement and an affidavit, stating that it has not received any consideration (pre-Initial Decision) or it has not received any consideration in excess of legitimate and prudent expenses (post-Initial Decision) for the dismissal/withdrawal of its application. In addition, within 5 days of the applicant's request for approval, each remaining competing applicant and the renewal applicant must submit an affidavit certifying that it has not paid any consideration (pre-Initial Decision), or that it has not paid consideration in excess of legitimate and prudent expenses (post-Initial Decision) for the dismissal/ withdrawal of a competing application. The data is used by FCC staff to ensure that an application was filed under appropriate circumstances and not to extract payments prohibited by the Commission.

Federal Communications Commission.
Magalie Roman Salas,
Secretary.

[FR Doc. 00-22917 Filed 9-6-00; 8:45 am]

BILLING CODE 6712-01-U